DEPARTMENT OF ENERGY

Federal Energy Regulatory Commission

Combined Notice of Filings

Take notice that the Commission has received the following Natural Gas Pipeline Rate and Refund Report filings:

Filings Instituting Proceedings

Docket Numbers: PR15-14-000.

Applicants: Louisville Gas and Electric Company.

Description: Tariff filing per 284.123(e) + (g): Re-Collation to be effective 1/24/2015; TOFC: 1280.

Filed Date: 1/23/15.

Accession Number: 20150123-5067.

Comments Due: 5 p.m. ET 2/13/15.

284.123(g) Protests Due: 5 p.m. ET 3/24/15.

Docket Numbers: RP15-361-000.

Applicants: Black Marlin Pipeline Company.

Description: Petition for Extension of Exemptions from Certain Tariff Provisions of Black Marlin Pipeline Company.

Filed Date: 1/23/15.

Accession Number: 20150123-5172.

Comments Due: 5 p.m. ET 2/4/15.

Docket Numbers: RP15-362-000.

Applicants: Algonquin Gas Transmission, LLC.

Description: § 4(d) rate filing per 154.204: Jan2015 AGT Cleanup Filing to be effective 3/1/2015.

Filed Date: 1/27/15.

Accession Number: 20150127-5019.

Comments Due: 5 p.m. ET 2/9/15.

Docket Numbers: RP15-363-000.

Applicants: Maritimes & Northeast Pipeline, L.L.C.

Description: § 4(d) rate filing per 154.204: MNUS Statements of Negotiated Rates Tariff Volume to be effective 3/1/2015.

Filed Date: 1/27/15.

Accession Number: 20150127-5073.

Comments Due: 5 p.m. ET 2/9/15.

Docket Numbers: RP15-364-000.

Applicants: Iroquois Gas Transmission System, L.P.

Description: § 4(d) rate filing per 154.204: 01/27/15 Negotiated Rates—ConEdison Energy Inc. (HUB) 2275-89 to be effective 1/26/2015.

Filed Date: 1/27/15.

Accession Number: 20150127-5093.

Comments Due: 5 p.m. ET 2/9/15.

Docket Numbers: RP15-365-000.

Applicants: Iroquois Gas Transmission System, L.P.

Description: § 4(d) rate filing per 154.204: 01/27/15 Negotiated Rates—Mercuria Energy Gas Trading LLC (HUB)—7540-89 to be effective 1/26/2015.

Filed Date: 1/27/15.

Accession Number: 20150127-5094.

Comments Due: 5 p.m. ET 2/9/15.

Docket Numbers: RP15-366-000.

Applicants: Iroquois Gas Transmission System, L.P.

Description: § 4(d) rate filing per 154.204: 01/27/15 Negotiated Rates—United Energy Trading, LLC (HUB) 5095-89 to be effective 1/26/2015.

Filed Date: 1/27/15.

Accession Number: 20150127-5095.

Comments Due: 5 p.m. ET 2/9/15.

Docket Numbers: RP15-367-000.

Applicants: Transcontinental Gas Pipe Line Company,.

Description: § 4(d) rate filing per 154.403: S-2 Tracker Filing Effective 2-1-2015 to be effective 2/1/2015.

Filed Date: 1/27/15.

Accession Number: 20150127-5108.

Comments Due: 5 p.m. ET 2/9/15.

Docket Numbers: RP15-368-000.

Applicants: El Paso Natural Gas Company, L.L.C.

Description: § 4(d) rate filing per 154.601: Non-Conforming Agreement Update Filing (SRP OPASA) to be effective 3/1/2015.

Filed Date: 1/27/15.

Accession Number: 20150127-5163.

Comments Due: 5 p.m. ET 2/9/15.

Docket Numbers: RP15-369-000.

Applicants: Mojave Pipeline Company, L.L.C.

Description: § 4(d) rate filing per 154.204: Merger Filing to be effective 3/1/2015.

Filed Date: 1/27/15.

Accession Number: 20150127-5167.

Comments Due: 5 p.m. ET 2/9/15.

Docket Numbers: RP15-370-000.

Applicants: East Tennessee Natural Gas, LLC.

Description: § 4(d) rate filing per 154.204: Move Negotiated Rate for Contract 661191 to be effective 4/1/2015.

Filed Date: 1/27/15.

Accession Number: 20150127-5200.

Comments Due: 5 p.m. ET 2/9/15.

Docket Numbers: RP15-371-000.

Applicants: East Tennessee Natural Gas, LLC.

Description: § 4(d) rate filing per 154.204: Move Negotiated Rate for Contract 661194 to be effective 11/1/2015.

Filed Date: 1/27/15.

Accession Number: 20150127-5201.

Comments Due: 5 p.m. ET 2/9/15.

Docket Numbers: RP15-372-000.

Applicants: East Tennessee Natural Gas, LLC.

Description: § 4(d) rate filing per 154.204: Move Negotiated Rate for Contract 661189 to be effective 4/1/2016.

Filed Date: 1/27/15.

Accession Number: 20150127-5203.

Comments Due: 5 p.m. ET 2/9/15.

Docket Numbers: RP15-373-000.

Applicants: East Tennessee Natural Gas, LLC.

Description: § 4(d) rate filing per 154.204: Move Negotiated Rate for Contract 661193 to be effective 11/1/2016.

Filed Date: 1/27/15.

Accession Number: 20150127-5205.

Comments Due: 5 p.m. ET 2/9/15.

Docket Numbers: RP15-374-000.

Applicants: East Tennessee Natural Gas, LLC.

Description: § 4(d) rate filing per 154.204: Move Negotiated Rate for Contract 661190 to be effective 4/1/2017.

Filed Date: 1/27/15.

Accession Number: 20150127-5207.

Comments Due: 5 p.m. ET 2/9/15.

Docket Numbers: RP15-375-000.

Applicants: ANR Pipeline Company.

Description: § 4(d) rate filing per 154.601: Antero FTS-1 Agmts to be effective 3/1/2015.

Filed Date: 1/28/15.

Accession Number: 20150128-5038.

Comments Due: 5 p.m. ET 2/9/15

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated January 28, 2015.
Nathaniel J. Davis, Sr.,
Deputy Secretary.

[FR Doc. 2015-02625 Filed 2-9-15; 8:45 am]

BILLING CODE 6717-01-P